DEPARTMENT OF THE INTERIOR

Fish and Wildlife Service

[FWS-R5-R-2012-N170; BAC-4311-K9-S3]

Montezuma National Wildlife Refuge, Cayuga, Seneca, and Wayne Counties, NY; Final Comprehensive Conservation Plan and Finding of No Significant Impact for Environmental Assessment

AGENCY: Fish and Wildlife Service, Interior.

ACTION: Notice of availability.

SUMMARY: We, the U.S. Fish and Wildlife Service (Service), announce the availability of a final comprehensive conservation plan (CCP) and finding of no significant impact (FONSI) for the environmental assessment (EA) for Montezuma National Wildlife Refuge (NWR), located in Cayuga, Seneca, and Wayne Counties, New York. In this final CCP, we describe how we will manage the refuge for the next 15 years.

ADDRESSES: You may view or obtain copies by any of the following methods. You may request a hard copy or a CD-ROM of the document.

Agency Web site: Download a copy of the document at http://www.fws.gov/northeast/planning/Montezuma/ccphome.html.

Email: Send requests to northeastplanning@fws.gov. Please include “Montezuma NWR Final CCP” in the subject line of the message.

Mail: Lia McLaughlin, Natural Resource Planner, U.S. Fish and Wildlife Service, 300 Westgate Center Drive, Hadley, MA 01035.

Fax: Attention: Lia McLaughlin, 413-253-8468.

In-Person Viewing or Pickup: Call 315-568-5987 to make an appointment (necessary for view/pickup only) during regular business hours at 3395 Route 5/20 East, Seneca Falls, NY 13148-9778.

FOR FURTHER INFORMATION CONTACT: Tom Jasikoff, Refuge Manager, 315-568-5987 (phone), or Lia McLaughlin, Planning Team Leader, 413-253-8575 (phone); email: northeastplanning@fws.gov.

SUPPLEMENTARY INFORMATION:

Introduction

With this notice, we finalize the CCP process for Montezuma NWR. We started this process through a notice in the Federal Register (75 FR 25286; May 7, 2010). We released the draft CCP and EA to the public, announcing and requesting comments in a notice of availability in the Federal Register (75 FR 25286; May 22, 2012).

Montezuma NWR was established in 1938 to provide nesting, feeding, and resting habitat for waterfowl and other migratory birds. Situated in Seneca, Wayne, and Cayuga Counties, the refuge currently encompasses 9,809 acres. Refuge habitats include emergent marshes and shallow water mudflats, open water, bottomland floodplain forest, old fields, shrublands, croplands, grassland, and successional forest. The refuge is part of the Montezuma Wetlands Complex, an area identified by the Service, the New York State Department of Environmental Conservation (NYSDEC), and other partners for its role in the conservation of migratory birds, particularly waterfowl. The refuge's public use program provides wildlife-oriented educational and recreational opportunities compatible with refuge management objectives. Public use facilities and programs include several trails, a visitor center, observation towers and platforms, fishing access sites, a hunting program, educational programs and materials, guided tours, and other special programs.

We announce our decision and the availability of the FONSI for the final CCP for Montezuma NWR in accordance with National Environmental Policy Act (NEPA) (42 U.S.C. 4321 et seq.) requirements. We completed a thorough analysis of impacts on the human environment, which we included in the draft CCP and EA.

The CCP will guide us in managing and administering Montezuma NWR for the next 15 years. Alternative B, as described in the refuge's draft CCP and EA, and with the modifications described below, is the foundation for the final CCP.

Background

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

CCP Alternatives, Including the Selected Alternative

During the public scoping process, we, the NYSDEC, other governmental partners, and the public raised several issues. To address these issues, we developed and evaluated three alternatives in the draft CCP and EA. Here we present a brief summary of each of the alternatives; a full description of each alternative is in the draft CCP and EA.

Management Alternatives

Alternative A (Current Management)

Alternative A satisfies the NEPA requirement of a “No Action” alternative, which we define as “continuing current management.” It describes our existing management priorities and activities, and serves as a baseline for comparing and contrasting alternatives B and C. It would maintain our present levels of approved refuge staffing and the biological and visitor programs now in place. We would continue to focus on managing impoundments to provide emergent marsh and open water habitats for migrating and nesting wading birds, marshbirds, waterfowl, shorebirds, and other wildlife. We would also continue to actively control invasive species, manage grassland habitats, and improve riparian and other forested habitats. We would continue to provide opportunities for all six priority public uses: hunting, fishing, wildlife observation, photography, environmental education, and interpretation.

Alternative B (Service-preferred Alternative)

This alternative is the Service-preferred alternative. It combines the actions we believe would most effectively achieve the refuge's purposes, vision, and goals, and respond to the issues raised during the scoping period. Under alternative B, emergent marsh management would remain a priority on the refuge. We would focus efforts on improving existing emergent wetland habitat and restoring additional acres, and re-establishing wetland and riparian forests, where feasible. More upland forest would be promoted through succession or planting native species. Additionally, we would continue to manage about 400 acres of shrublands, and grassland management would focus on creating larger patches with less edge, resulting in fewer grassland acres overall. Opportunities for visitors to participate in priority public uses would increase. Added trails, viewing areas, and photography blinds would support additional opportunities for wildlife observation and photography. We would develop a formal, curriculum-based environmental education program. Environmental interpretation would be enhanced through updated interpretive displays and associated services. The refuge would be opened to new hunting opportunities, and we would provide more accessible sites. Fishing opportunities would be increased by providing additional access to canal waters for anglers.

Alternative C (Less Active Habitat Management)

Under alternative C, most emergent marsh habitat on the refuge would be allowed to convert to bottomland floodplain forest. Only the Main Pool, Tschache Pool, and Visitor Center Wetland impoundments would be maintained. Newly acquired lands would not be converted to impoundments. Natural succession would play a larger role in shaping vegetative communities on the refuge compared to alternatives A and B. We would allow most early successional habitats in the uplands to revert to forests. Compared to alternative A, opportunities for visitors to participate in priority public uses would increase under this alternative, but not to the extent proposed under alternative B. We would develop a few additional sites to support wildlife observation and photography. Interpretation would be somewhat increased with the expansion of the visitor contact station. Interpretive messages would be changed, reflecting the different focus of refuge management. Hunting opportunities would increase, similar to alternative B; however, waterfowl hunting would remain unchanged. Fishing opportunities would be the same as alternative B.

Comments

We solicited comments on the draft CCP and EA for Montezuma NWR from May 22 to June 21, 2012 (77 FR 25286). During the comment period, we received 36 sets of responses, including comments from public meetings, a phone call, email, and letters. We evaluated all of the substantive comments we received, and include a summary of those comments, and our responses to them, as appendix K in the final CCP.

Selected Alternative

We have selected alternative B for implementation, with the following modifications:

• We increased the amount of shrubland we intend to maintain to 396 acres (similar to alternative A), which is about 100 acres more than originally proposed under alternative B of the draft CCP and EA.

• We included additional information in chapter 4, under “Protecting Land and Proposed Land Expansion,” to explain that we will evaluate newly acquired lands for their potential for habitat restoration (i.e., emergent marsh, forest, shrubland, grassland).

• We have added estimates of hazard abatement surveys to table 4.1, and have revised the cost estimates for demolition.

• We added a section titled “Alternatives Considered but not Fully Developed” to the final hunt program EA (appendix E), which includes a discussion on closing the refuge to hunting.

• We modified the land protection plan (appendix F) to incorporate climate change information from the CCP and estimated numbers of migratory birds and breeding marshbirds that could use emergent marsh habitats, once lands have been acquired and restored. We also revised the land protection plan and final CCP to clarify which parcels are existing refuge lands, which have been previously added to the refuge's approved acquisition boundary but not purchased, and which would be included in the refuge expansion.

• We corrected the final fire management plan EA to show that alternative B is both the current management (the no action alternative) and the preferred-alternative.

We have selected alternative B to implement for Montezuma NWR, with these minor changes, for several reasons. Alternative B incorporates a combination of actions that, in our professional judgment, work best towards achieving the refuge's purposes, vision, and goals, Service policies, and the goals of other State and regional conservation plans. We also believe that alternative B most effectively addresses key issues raised during the planning process. The basis of our decision is detailed in the FONSI (appendix L in the final CCP).

Public Availability of Documents

You can view or obtain the final CCP, including the FONSI, as indicated under ADDRESSES, and at the following location:

• Public Library: the Seneca Falls Library, located at 47 Cayuga Street, Seneca Falls, NY 13148, during regular library hours.

Dated: February 21, 2013.
Deborah Rocque,
Acting Regional Director, Northeast Region.

[FR Doc. 2013-07237 Filed 3-27-13; 8:45 am]

BILLING CODE 4310-55-P